ENVIRONMENTAL PROTECTION AGENCY

[EPA-HQ-OAR-2020-0660; FRL-9507-01-OMS]

Information Collection Request Submitted to OMB for Review and Approval; Comment Request; NSPS for Nonmetallic Mineral Processing (Renewal)

AGENCY: Environmental Protection Agency (EPA).

ACTION: Notice.

SUMMARY: The Environmental Protection Agency (EPA) has submitted an information collection request (ICR), NSPS for Nonmetallic Mineral Processing (EPA ICR Number 1084.15, OMB Control Number 2060-0050), to the Office of Management and Budget (OMB) for review and approval in accordance with the Paperwork Reduction Act. This is a proposed extension of the ICR, which is currently-approved through March 31, 2022. Public comments were previously requested, via the Federal Register, on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before February 28, 2022.

ADDRESSES: Submit your comments, referencing Docket ID Number EPA-HQ-OAR-2020-0660, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: https://www.epa.gov/dockets.

Abstract: The New Source Performance Standards (NSPS) for Nonmetallic Mineral Processing (40 CFR part 60, subpart OOO) apply to the following affected facilities in fixed or portable nonmetallic mineral processing plants: Each crusher, grinding mill, screening operation, bucket elevator, belt conveyor, bagging operation, storage bin, and enclosed truck or railcar loading station, which commenced construction, modification or reconstruction after August 31, 1983. Also, crushers and grinding mills at hot mix asphalt facilities that reduce the size of nonmetallic minerals embedded in recycled asphalt pavement and subsequent affected facilities up to, but not including, the first storage silo or bin are subject to the provisions of the subpart. New facilities include those that commenced construction, modification, or reconstruction after the date of proposal. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 60, subpart OOO.

Form Numbers: None.

Respondents/affected entities: Nonmetallic mineral processing facilities.

Respondent's obligation to respond: Mandatory (40 CFR part 60, subpart OOO).

Estimated number of respondents: 5,294 (total).

Frequency of response: Initially and occasionally.

Total estimated burden: 20,800 hours (per year). Burden is defined at 5 CFR 1320.3(b).

Total estimated cost: $2,700,000 (per year), which includes $228,000 in annualized capital/startup and/or operation & maintenance costs.

Changes in the Estimates: There is an adjustment increase in the total estimated burden as currently identified in the OMB Inventory of Approved Burdens. This increase is not due to any program changes. The adjustment increase in burden from the most-recently approved ICR is due to an increase in the number of new or modified sources. The number of respondents in this ICR has been adjusted to reflect growth from new or modified sources over the past three years. There are no significant changes to the capital costs because this ICR assumes a constant rate of new or modified sources consistent with the prior ICR; there are no operation and maintenance costs associated with this collection. The adjustments result in an overall increase in burden.

Courtney Kerwin,
Director, Regulatory Support Division.

[FR Doc. 2022-01588 Filed 1-26-22; 8:45 am]

BILLING CODE 6560-50-P